DEPARTMENT OF JUSTICE

Notice of Lodging of Consent Decree Pursuant to the Comprehensive Environmental Response, Compensation and Liability Act

Notice is hereby given that on March 23, 2007, a proposed consent decree in United States v. Allied Waste Industries and Waste Management, Civil Action No. 06-5245, was lodged with the United States District Court for the Northern District of Illinois.

In this cost recovery action brought pursuant to the Comprehensive Environmental Response, Compensation and Liability Act, 42 U.S.C. 9607, the United States sought recovery of unreimbursed past response costs and prejudgement interest incurred by the United States Environmental Protection Agency at the Tri-County/Elgin Landfills Superfund Site located near Elgin in Kane County, Illinois. Under the proposed consent decree, Allied Waste Industries, Inc. (formerly known as BFI Waste Industries) and Waste Management of Illinois, Inc. will pay a total of $2,120,000 to the Hazardous Substance Superfund.

The Department of Justice will accept comments relating to the proposed consent decree for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States v. Allied Waste, et al., Civil No. 06-5245 (N.D. Ill.) and D.J. Reference No. 90-11-3-08672.

The proposed consent decree may be examined at: (1) The Office of the United States Attorney for the Northern District of Illinois, 219 South Dearborn Street, Suite 500, Chicago, Illinois 60604, (312) 353-5300; and (2) the United States Environmental Protection Agency (Region 5), 77 West Jackson Boulevard, Chicago, Illinois 60604-3590 (contact Jeffrey A. Cahn (312-886-6670)). During the comment period, the proposed consent decree may also be examined on the following Department of Justice Web site: http://www.usdoj.gov/enrd/Consent_Decree.html. A copy of the proposed consent decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-11-3-08672, and enclose a check in the amount of $24.50 for the consent decree (98 pages at 25 cents per page reproduction costs), made payable to the U.S. Treasury.

William D. Brighton,
Assistant Chief, Environmental Enforcement Section, Environmental and Natural Resources Division.

[FR Doc. 07-1655 Filed 4-4-07; 8:45 am]

BILLING CODE 4410-15-M